FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than March 2, 2020.

A. Federal Reserve Bank of San Francisco (Sebastian Astrada, Director, Applications) 101 Market Street, San Francisco, California 94105-1579:

1. Castle Creek Capital Partners VI, LP; Castle Creek Capital VI LLC; Castle Creek Advisors IV LLC; JME Advisory Corporation; Pietrzak Advisory Corporation; Scavuzzo Advisory Corporation; Volk Advisory Corporation; Rana Advisory Corporation; John Eggemeyer; John Pietrzak; Anthony Scavuzzo; David Volk; and Sundeep Rana, all of Rancho Santa Fe, California; as a group acting in concert to acquire 17.92 percent of the voting shares of Riverview Financial Corporation, Harrisburg, Pennsylvania, and thereby indirectly acquire 17.92 percent of the voting shares of Riverview Bank, Marysville, Pennsylvania.

B. Federal Reserve Bank of Chicago (Colette A. Fried, Assistant Vice President) 230 South LaSalle Street, Chicago, Illinois 60690-1414:

1. Heather L.H. Miller Revocable Trust, Heather L.H. Miller, trustee, and Heidi A. Loverude Revocable Trust, Heidi A. Loverude, trustee, both of Urbandale, Iowa; to become members of the Hill Family Control Group and retain voting shares of Freedom Holdings Company, and thereby indirectly retain voting shares of Freedom Financial Bank, both of West Des Moines, Iowa.

Board of Governors of the Federal Reserve System, February 11, 2020.
Yao-Chin Chao,
Assistant Secretary of the Board.

[FR Doc. 2020-03028 Filed 2-13-20; 8:45 am]

BILLING CODE P